DEPARTMENT OF TRANSPORTATION

Federal Aviation Administration

14 CFR Part 39

[Docket No. FAA-2012-0592; Directorate Identifier 2011-NM-253-AD; Amendment 39-17230 AD 2012-21-14]

RIN 2120-AA64

Airworthiness Directives; Bombardier, Inc. Airplanes

AGENCY: Federal Aviation Administration (FAA), Department of Transportation (DOT).

ACTION: Final rule.

SUMMARY: We are superseding an existing airworthiness directive (AD) for certain Bombardier, Inc. Model CL-600-2B19 (Regional Jet Series 100 & 440) airplanes. That AD currently requires a one-time inspection of the shafts of the main landing gear (MLG) side-brace fittings to detect corrosion, and the forward and aft bushings in the left-hand and right-hand MLG side-brace fittings to detect discrepancies. The existing AD also requires corrective and related actions if necessary. This new AD requires repetitive detailed inspections for corrosion and damage of the MLG side-brace fitting, and replacing the side-brace fitting shaft with the re-designed side-brace fitting shaft of the MLG if necessary. This AD also requires eventual replacement of certain side-brace fitting shafts with the re-designed part. Replacement with a re-designed side-brace fitting shaft of the MLG is terminating action for the repetitive inspections. This AD was prompted by reports of failure of the side-brace fitting shaft of the main landing gear (MLG) due to corrosion. We are issuing this AD to prevent fractures of the side-brace fitting shafts of the MLG, and possible collapse of the MLG.

DATES: This AD becomes effective December 5, 2012.

The Director of the Federal Register approved the incorporation by reference of a certain publication listed in this AD as of December 5, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Jeffrey Zimmer, Aerospace Engineer, Airframe and Mechanical Systems Branch, ANE-171, FAA, New York Aircraft Certification Office, 1600 Stewart Avenue, Suite 410, Westbury, New York 11590; telephone (516) 228-7306; fax (516) 794-5531.

SUPPLEMENTARY INFORMATION:

Discussion

We issued a notice of proposed rulemaking (NPRM) to amend 14 CFR part 39 to include an AD that would apply to the specified products. That NPRM was published in the Federal Register on June 12, 2012 (77 FR 34870), and proposed to supersede AD 2004-22-23, Amendment 39-13851 (69 FR 64856, November 9, 2004). That NPRM proposed to correct an unsafe condition for the specified products. The MCAI states:

Due to the failure of the main landing gear (MLG) side brace fitting shaft, caused by corrosion, [Transport Canada Civil Aviation (TCCA)] Airworthiness Directive (AD) CF-2002-41 was issued to require inspection and if needed, parts replacement. However, the existing MLG side-brace fitting shafts continued to fail. Failure of the MLG side brace fitting shaft could result in the collapse of the main landing gear.

This [TCCA] directive mandates the repetitive detailed visual inspection [for cracking and corrosion] of the MLG side brace fitting and the incorporation of the re-designed MLG side brace fitting shaft part number (P/N) 601R10247-3 as the terminating action.

You may obtain further information by examining the MCAI in the AD docket.

Comments

We gave the public the opportunity to participate in developing this AD. We considered the comment received.

Request to Reference Revised Service Bulletin

Comair, Inc. requested that we allow the use of Bombardier Service Bulletin 601R-57-052, Revision A, dated October 28, 2011, in the AD. Comair, Inc. provided no reasons for the request.

We agree to reference the most recent service information. Bombardier, Inc. has issued Service Bulletin 601R-57-052, Revision A, dated October 28, 2011. This service bulletin includes editorial changes, but does not add work for airplanes that have done the actions using Bombardier Service Bulletin 601R-57-052, dated July 28, 2011 (which was referenced to as the appropriate source of service information in the NPRM (77 FR 34870, June 12, 2012). Therefore we have revised paragraphs (g)(1), (g)(2), (h)(1), and (h)(2) of this AD to refer to Bombardier Service Bulletin 601R-57-052, Revision A, dated October 28, 2011. We have also added paragraph (i) to this AD to allow credit for actions performed before the effective date of this AD using Bombardier Service Bulletin 601R-57-052, dated July 28, 2011. We have re-designated subsequent paragraphs accordingly.

Conclusion

We reviewed the available data, including the comment received, and determined that air safety and the public interest require adopting the AD with the changes described previously and except for minor editorial changes. We have determined that these changes:

• Are consistent with the intent that was proposed in the NPRM (77 FR 34870, June 12, 2012) for correcting the unsafe condition; and

• Do not add any additional burden upon the public than was already proposed in the NPRM (77 FR 34870, June 12, 2012).

Costs of Compliance

We estimate that this AD will affect about 584 products of U.S. registry.

We estimate that it will take about 10 work-hours per product to comply with the new basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $496,400, or $850 per product.

In addition, we estimate that any necessary follow-on actions would take about 14 work-hours and require parts costing $3,860, for a cost of $5,050 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 34870, June 12, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2004-22-23, Amendment 39-13851 (69 FR 64856, November 9, 2004), and adding the following new AD:

2012-21-14 Bombardier, Inc.: Amendment 39-17230. Docket No. FAA-2012-0592; Directorate Identifier 2011-NM-253-AD.

(a) Effective Date

This airworthiness directive (AD) becomes effective December 5, 2012.

(b) Affected ADs

This AD supersedes AD 2004-22-23, Amendment 39-13851 (69 FR 64856, November 9, 2004).

(c) Applicability

This AD applies to Bombardier, Inc. Model CL-600-2B19 (Regional Jet Series 100 & 440) airplanes; certificated in any category; serial numbers 7003 through 7990 inclusive, and 8000 through 8999 inclusive.

(d) Subject

Air Transport Association (ATA) of America Code 57: Wings.

(e) Reason

This AD was prompted by reports of failure of the side-brace fitting shaft of the main landing gear (MLG) due to corrosion. We are issuing this AD to prevent fractures of the side-brace fitting shafts of the MLG, and possible collapse of the MLG.

(f) Compliance

You are responsible for having the actions required by this AD performed within the compliance times specified, unless the actions have already been done.

(g) Inspection of MLG Side-Brace Fitting Shaft and Replacement

(1) At the applicable times specified in paragraphs (g)(1)(i), (g)(1)(ii), (g)(1)(iii), and (g)(1)(iv) of this AD, do a detailed inspection for corrosion and damage of each side-brace fitting shaft of the MLG, in accordance with the Accomplishment Instructions of Bombardier Service Bulletin 601R-57-052, Revision A, dated October 28, 2011. Repeat the inspections at the applicable times specified in paragraphs (g)(1)(i), (g)(1)(ii), (g)(1)(iii), and (g)(1)(iv) of this AD.

(i) For airplanes that average greater than 900 flight hours per year and have side-brace shafts part number (P/N) 601R10237-1 installed in either the left- or right-hand MLG, or if the side-brace shaft part number cannot be identified without removal: Within 1,000 flight hours after the effective date of this AD, do the inspection. Repeat the inspections thereafter at intervals not to exceed 1,000 flight hours until the replacement specified in paragraph (g)(2) or (h) of this AD is done.

(ii) For airplanes that average 900 flight hours or less per year and have side-brace shafts P/N 601R10237-1 installed on either the left- or right-hand MLG, or if the side-brace shaft part number cannot be identified without removal: Within 18 months after the effective date of this AD, do the inspection. Repeat the inspections thereafter at intervals not to exceed 18 months until the replacement specified in paragraph (g)(2) or (h) of this AD is done.

(iii) For airplanes that average greater than 900 flight hours per year and have side-brace shafts P/N 601R10237-3 installed on either the left- or right-hand MLG: Within 36 months after the effective date of this AD, do the inspection. Repeat the inspections thereafter at intervals not to exceed 36 months until the replacement specified in paragraph (g)(2) or (h) of this AD is done.

(iv) For airplanes that average 900 flight hours or less per year and have side-brace shafts P/N 601R10237-3 installed on either the left- or right-hand MLG: Within 60 months after the effective date of this AD, do the inspection. Repeat the inspections thereafter at intervals not to exceed 60 months until the replacement specified in paragraph (g)(2) or (h) of this AD is done.

(2) If any corrosion or damage is found during any inspection required by paragraph (g) of this AD: Before further flight, replace the side-brace fitting shaft with a new shaft P/N 601R10247-3, in accordance with the Accomplishment Instructions of Bombardier Service Bulletin 601R-57-052, Revision A, dated October 28, 2011. Doing this replacement terminates the inspection requirements of paragraph (g) of this AD.

(h) Replacement

Do the replacement at the applicable time specified in paragraph (h)(1) or (h)(2) of this AD.

(1) For any airplanes that have side-brace shafts P/N 601R10237-1 installed, or if the side-brace shaft part number cannot be identified without removal: Within 27 months after the effective date of this AD, replace the side-brace fitting shaft of the MLG with a new shaft having P/N 601R10247-3, in accordance with the Accomplishment Instructions of Bombardier Service Bulletin 601R-57-052, Revision A, dated October 28, 2011. Doing this replacement terminates the inspection requirements of paragraph (g) of this AD.

(2) For airplanes that have side-brace shafts P/N 601R10237-3 installed: Within 117 months after the effective date of this AD, replace the side-brace fitting shaft of the MLG with a new shaft P/N 601R10247-3, in accordance with the Accomplishment Instructions of Bombardier Service Bulletin 601R-57-052, Revision A, dated October 28, 2011. Doing this replacement terminates the inspection requirements of paragraph (g) of this AD.

(i) Credit for Previous Actions

This paragraph provides credit for the actions specified in paragraphs (g) and (h) of this AD, if those actions were performed before the effective date of this AD using Bombardier Service Bulletin 601R-57-052, dated July 28, 2011 (which is not incorporated by reference in this AD).

(j) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI Canadian Airworthiness Directive CF-2011-39, dated October 25, 2011; and Bombardier Service Bulletin 601R-57-052, dated July 28, 2011; for related information.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bombardier Service Bulletin 601R-57-052, Revision A, dated October 28, 2011.

(ii) Reserved.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 14, 2012.
John P. Piccola,
Acting Manager, Transport Airplane Directorate, Aircraft Certification Service.

[FR Doc. 2012-26088 Filed 10-30-12; 8:45 am]

BILLING CODE 4910-13-P